DEPARTMENT OF HEALTH AND HUMAN SERVICES

Administration for Children and Families

Submission for Office of Management and Budget Review; ACF-801: Child Care and Development Fund (CCDF) Quarterly Case-Level Report (Office of Management and Budget #0970-0167)

AGENCY: Office of Child Care, Administration for Children and Families, U.S. Department of Health and Human Services.

ACTION: Request for public comments.

SUMMARY: The Office of Child Care (OCC), Administration for Children and Families (ACF) is requesting a 3-year extension of the form ACF-801: CCDF Quarterly Case-Level Report (OMB #0970-0167, expiration 4/30/2025). OCC proposes changes to the reporting requirements to combine race and ethnicity into a single category. OCC had previously proposed additional changes but has dropped those proposals to be responsive to public comment and limit administrative burden.

DATES: Comments due May 29, 2025. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: The ACF-801 provides monthly case-level data on the children and families receiving direct child care services under CCDF. The ACF-801 case-level data are reported either monthly or quarterly. New instructions for reporting race and ethnicity will provide improved data quality and uniformity of information collected that is consistent with OMB guidance.

Respondents: State and Territory Lead Agencies.

Annual Burden Estimates

ACF has increased its burden estimate from the level contained in a prior Federal Register notice (dated November 5, 2024) to fully account for estimated administrative burden.

Instrument | Total number of respondents | Annual number of responses per respondent | Average burden hours per response | Annual
ACF-801: CCDF Quarterly Case-Level Report | 56 | 4 | 25 | 5,600

Authority: Section 658K of the Child Care and Development Block Grant Act (42 U.S.C. 9857 et seq.); regulations 45 CFR 98.70 and 98.71.

Mary C. Jones,
ACF/OPRE Certifying Officer.

[FR Doc. 2025-07373 Filed 4-28-25; 8:45 am]

BILLING CODE 4184-87-P